DEPARTMENT OF COMMERCE

National Oceanic and Atmospheric Administration

[RTID: 0648-XC202]

Council Coordination Committee Meeting

AGENCY: National Marine Fisheries Service (NMFS), National Oceanic and Atmospheric Administration (NOAA), Department of Commerce.

ACTION: Notice of a public meeting; information regarding the agenda.

SUMMARY: The National Marine Fisheries Service, Office of Sustainable Fisheries will host a closed session of the Council Coordination Committee (CCC), consisting of the Regional Fishery Management Council (Council) chairs, vice chairs, and executive directors on August 16, 2022. The intent of this virtual meeting is to discuss internal administrative matters regarding policies for preventing harassment of Council staff and all other Council process participants. The harassment prevention policies and related outcomes from this discussion will be shared in public sessions of future CCC meetings.

DATES: The meeting will begin at 4 p.m. Eastern Daylight Time (EDT) on Tuesday, August 16, adjourning at 5:30 p.m. EDT.

ADDRESSES: The meeting will be held online via WebEx for invited Council participants.

FOR FURTHER INFORMATION CONTACT: Morgan Corey by email at Morgan.Corey@noaa.gov or at (301) 427-8500.

SUPPLEMENTARY INFORMATION: The 2007 reauthorization of the Magnuson-Stevens Fishery Conservation and Management Act established the CCC. The CCC consists of the chairs, vice chairs, and executive directors of each of the eight Regional Fishery Management Councils, or their respective proxies. As consistent with MSA Section 302(i)(3) and codified at 50 CFR 600.135(c), the CCC may hold closed sessions for limited purposes, including to discuss internal administrative and employment matters. A closed session is required for this meeting to discuss topics that may be sensitive regarding prohibited harassment and related employment and personnel matters.

Special Accommodations

N/A. This session is closed to the public to discuss internal administrative matters.

Dated: July 25, 2022.
Jennifer M. Wallace,
Acting Director, Office of Sustainable Fisheries, National Marine Fisheries Service.

[FR Doc. 2022-16240 Filed 7-27-22; 8:45 am]

BILLING CODE 3510-22-P